DEPARTMENT OF ENERGY

Federal Energy Regulatory Commission

Notice of Change in Date for the July Open Commission Meeting

Take notice that the Commission has revised the date for its July 2022 open meeting. The meeting will take place on Thursday, July 28, 2022. The open meeting had been initially scheduled for Thursday, July 21, 2022.¹

¹ The start time of the meeting remains 10:00 a.m. Eastern Time.

Dated: April 4, 2022.
Kimberly D. Bose,
Secretary.

[FR Doc. 2022-07531 Filed 4-7-22; 8:45 am]

BILLING CODE 6717-01-P